SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before January 8, 2001.

ADDRESSES: Send all comments regarding whether these information collections are necessary for the proper performance of the function of the agency, whether the burden estimate is accurate, and if there are ways to minimize the estimated burden and enhance the quality of the collections, to James Rivera, Senior Program Analyst, Office of Disaster, Small Business Administration, 409 3rd Street, S. W., Suite 6050.

FOR FURTHER INFORMATION CONTACT: James Rivera, Senior Program Analyst, 202-205-6734 or Curtis B. Rich, Management Analyst, (202)205-7030.

SUPPLEMENTARY INFORMATION: Title: Disaster Business Loan Application.

Form No's: 5, 739A and 1368.

Description of Respondents: Small Businesses.

Annual Responses: 16,853.

Annual Burden: 48,561.

Title: Disaster Survey Worksheet.

Form No: 987.

Description of Respondents: Individuals, Businesses, and Public Officials within an area requesting a Disaster Declaration.

Annual Responses: 4,000.

Annual Burden: 332.

Curtis B. Rich,
Acting Chief, Administrative Information Branch.

[FR Doc. 00-28452 Filed 11-6-00; 8:45 am]

BILLING CODE 8025-01-P